FEDERAL MARITIME COMMISSION

Performance Review Board

AGENCY: Federal Maritime Commission.

ACTION: Notice.

SUMMARY: The Federal Maritime Commission (Commission) is hereby giving notice of the names of the members appointed to the Commission's Performance Review Board.

FOR FURTHER INFORMATION CONTACT: Shelita R. Aldrich, Director, Office of Human Resources, Chief Human Capital Officer, Federal Maritime Commission, 800 North Capitol Street NW, Washington, DC 20573.

SUPPLEMENTARY INFORMATION: Section 4314(c) (1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

The members of the Performance Review Board are:

1. Max Vekich, Commissioner

2. Mary T. Hoang, Chief of Staff

3. Phillip C. Hughey, General Counsel

4. Cindy R. Hennigan, Deputy Managing Director

5. John G. Crews, Director, Bureau of Enforcement, Investigations & Compliance

6. Mohammad A. Usman, Chief Information Officer

By the Commission.
David Eng,
Secretary.

[FR Doc. 2025-22183 Filed 12-5-25; 8:45 am]

BILLING CODE P